DEPARTMENT OF EDUCATION

[Docket No.: ED-2019-ICCD-0015]

Agency Information Collection Activities; Submission to the Office of Management and Budget for Review and Approval; Comment Request; William D. Ford Federal Direct Loan Program (Direct Loan Program) Promissory Notes

AGENCY: Federal Student Aid (FSA), Department of Education (ED).

ACTION: Notice.

SUMMARY: In accordance with the Paperwork Reduction Act of 1995, ED is proposing a revision of an existing information collection.

DATES: Interested persons are invited to submit comments on or before May 28, 2019.

ADDRESSES: To access and review all the documents related to the information collection listed in this notice, please use http://www.regulations.gov by searching the Docket ID number ED-2019-ICCD-0015. Comments submitted in response to this notice should be submitted electronically through the Federal eRulemaking Portal at http://www.regulations.gov by selecting the Docket ID number or via postal mail, commercial delivery, or hand delivery. If the regulations.gov site is not available to the public for any reason, ED will temporarily accept comments at ICDocketMgr@ed.gov. Please include the docket ID number and the title of the information collection request when requesting documents or submitting comments. Please note that comments submitted by fax or email and those submitted after the comment period will not be accepted. Written requests for information or comments submitted by postal mail or delivery should be addressed to the Director of the Information Collection Clearance Division, U.S. Department of Education, 550 12th Street SW, PCP, Room 9086, Washington, DC 20202-0023.

FOR FURTHER INFORMATION CONTACT: For specific questions related to collection activities, please contact Beth Grebeldinger, 202-377-4018.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: William D. Ford Federal Direct Loan Program (Direct Loan Program) Promissory Notes.

OMB Control Number: 1845-0007.

Type of Review: A revision of an existing information collection.

Respondents/Affected Public: Individuals or Households.

Total Estimated Number of Annual Responses: 9,862,685.

Total Estimated Number of Annual Burden Hours: 4,021,534.

Abstract: The Department is requesting that three separate ICR packages be combined into a single ICR using OMB Control Number 1845-0007. The three separate ICR packages cover: The Direct Subsidized Loan and Direct Unsubsidized Loan Master Promissory Note, 1845-0007; the Direct PLUS Loan Master Promissory Note and Direct PLUS Loan Endorser Addendum, 1845-0068; and the Direct Consolidation Loan Application and Promissory Note and Related Forms, 1845-0053. We are streamlining all of the forms by eliminating duplicative and obsolete information, reordering items to present information in a more logical order, using plain language to present information more clearly, adding information about the new cancer treatment deferment, updating information about the borrower defense discharge provisions to show changes made through the November 1, 2016 regulation. For the PLUS master promissory note (MPN) we are revising the information and instruction section to clarify who qualifies as a “parent”. The promissory notes serve as the means by which an individual applies for and agrees to repay a Federal Direct Loan. It also informs the borrower of the terms and conditions of the Direct Loan and includes a statement of borrower's rights and responsibilities. Instructions explain how to complete the applications. The additional forms for the Direct Consolidation Loan allows the borrower to list all loans that they wish to include that would not fit on the application, and add other loans within the allowed time frame once the Consolidation Loan is made. The LVC for the Consolidation Loan serves as the means by which the Department obtains information needed to pay off the holders of the loans being consolidated.

Dated: April 23, 2019.
Kate Mullan,
PRA Coordinator, Information Collection Clearance Program, Information Management Branch, Office of the Chief Information Officer.

[FR Doc. 2019-08443 Filed 4-25-19; 8:45 am]

BILLING CODE 4000-01-P